DEPARTMENT OF HOMELAND SECURITY

United States Immigration and Customs Enforcement

Agency Information Collection Activities: Extension, With Changes, of an Existing Information Collection

AGENCY: Immigration and Customs Enforcement, HSD.

ACTION: 60-Day Notice of Information collection for review; Form No. I-352SA/I-352RA; Electronic Bonds Online (eBonds) Access; OMB Control No. 1653-0046.

The Department of Homeland Security, U.S. Immigration and Customs Enforcement (USICE), is submitting the following information collection request for review and clearance in accordance with the Paperwork Reduction Act of 1995. The information collection is published in the Federal Register to obtain comments from the public and affected agencies. Comments are encouraged and will be accepted for sixty day until March 28, 2016.

Written comments and suggestions regarding items contained in this notice and especially with regard to the estimated public burden and associated response time should be directed to the Office of Chief Information Office, Forms Management Office, U.S. Immigrations and Customs Enforcement, 801 I Street NW., Mailstop 5800, Washington, DC 20536-5800.

Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension, with changes, of a currently approved information collection

(2) Title of the Form/Collection: Electronic Bonds Online (eBonds) Access

(3) Agency form number, if any, and the applicable component of the Department of Homeland Security sponsoring the collection: ICE Form I-352SA (Surety eBonds Access Application and Agreement); ICE Forms I-352RA (eBonds Rules of Behavior Agreement); U.S Immigration and Customs Enforcement.

(4) Affected public who will be asked or required to respond, as well as a brief abstract: Primary: Individual or Households, Business or other non-profit. The information taken in this collection is necessary for ICE to grant access to eBonds and to notify the public of the duties and responsibilities associated with accessing eBonds. The I-352SA and the I-352RA are the two instruments used to collect the information associated with this collection. The I-352SA is to be completed by a Surety that currently holds a Certificate of Authority to act as a Surety on Federal bonds and details the requirements for accessing eBonds as well as the documentation, in addition to the I-352SA and I-352RA, which the Surety must submit prior to being granted access to eBonds. The I-352RA provides notification that eBonds is a Federal government computer system and as such users must abide by certain conduct guidelines to access eBonds and the consequences if such guidelines are not followed.

(5) An estimate of the total number of respondents and the amount of time estimated for an average respondent to respond: 100 responses at 30 minutes (.50 hours) per response.

(6) An estimate of the total public burden (in hours) associated with the collection: 50 annual burden hours.

Dated: January 21, 2016.
Scott Elmore,
Program Manager, Forms Management Office, Office of the Chief Information Officer, U.S. Immigration and Customs Enforcement, Department of Homeland Security.

[FR Doc. 2016-01425 Filed 1-25-16; 8:45 am]

BILLING CODE 9111-28-P